DEPARTMENT OF ENERGY

Federal Energy Regulatory Commission

[Project No. 7569-008]

University of Notre Dame, ND Hydro, LLC; Notice of Transfer of Exemption

1. On April 21, 2022, University of Notre Dame, exemptee for the 2.5 Megawatts South Bend Hydroelectric Project No. 7569, filed a letter notifying the Commission that the project was transferred from University of Notre Dame to ND Hydro, LLC. The exemption from licensing was originally issued on April 18, 1984.¹ The project is located on the St. Joseph River, St Joseph County, Indiana. The transfer of an exemption does not require Commission approval.

¹ City of South Bend, Indiana, 27 FERC ¶ 62,056 (1984). Subsequently, on January 31, 2017, the project was transferred to University of Notre Dame. (P-7569-005)

2. ND Hydro, LLC is now the exemptee of the South Bend Hydroelectric Project No. 7569. All correspondence must be forwarded to Paul Kempf, ND Hydro, LLC, 100 Facilities Building, Notre Dame, IN 46556, Phone: 574-631-6594 (main), 574-631-0142 (direct), and 574-631-8468 (fax), Email: Paul.A.Kempf.2@nd.edu.

Dated: May 9, 2022.
Kimberly D. Bose,
Secretary.

[FR Doc. 2022-10358 Filed 5-12-22; 8:45 am]

BILLING CODE 6717-01-P